CONSUMER PRODUCT SAFETY COMMISSION

[Docket No. CPSC-2012-0058]

Agency Information Collection Activities; Extension of Collection; Safety Standard for Walk-Behind Power Lawn Mowers

AGENCY: Consumer Product Safety Commission.

ACTION: Notice of information collection; request for comment.

SUMMARY: As required by the Paperwork Reduction Act of 1995 (PRA), the Consumer Product Safety Commission (CPSC or Commission) announces that the Commission has submitted to the Office of Management and Budget (OMB) a request for extension of approval of information collection requirements associated with the Safety Standard for Walk-Behind Power Lawn Mowers. OMB previously approved the collection of information under control number 3041-0091. OMB's most recent extension of approval will expire on November 30, 2025. On September 23, 2025, CPSC published a notice in the Federal Register to announce the agency's intention to seek extension of approval of the collection of information. The Commission received four public comments. Therefore, by publication of this notice, the Commission announces that CPSC has submitted to OMB a request for extension of approval of that collection of information.

DATES: Submit comments on the collection of information by December 29, 2025.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW, Washington, DC 20503. Written comments that are sent to OMB also should be submitted electronically at http://www.regulations.gov, under Docket No. CPSC-2012-0058.

FOR FURTHER INFORMATION CONTACT: Cynthia Gillham, Consumer Product Safety Commission, 4330 East-West Highway, Bethesda, MD 20814; (301) 504-7791, or by email to: pra@cpsc.gov.

SUPPLEMENTARY INFORMATION: CPSC seeks to renew the following currently approved collection of information:

Title: Safety Standard for Walk-Behind Lawn Mowers.

OMB Number: 3041-0091.

Type of Review: Renewal of collection.

Frequency of Response: On occasion.

Affected Public: Manufacturers and importers of walk-behind power lawn mowers.

General Description of Collection: The Safety Standard for Walk-Behind Power Lawn Mowers (16 CFR part 1205) addresses blade contact injuries. Subpart B of the standard sets forth regulations prescribing requirements for a reasonable testing program to support certificates of compliance with the standard for walk-behind power lawn mowers. Section 14(a) of the CPSA requires manufacturers, importers, and private labelers of a consumer product subject to a consumer product safety standard to issue a certificate stating that the product complies with all applicable consumer product safety standards. 15 U.S.C. 2063(a). Section 14(a) of the CPSA also requires that the certificate of compliance must be based on a test of each product or upon a reasonable testing program. Id. The rule requires manufacturers (including importers) to establish and maintain written records showing that the certificates of compliance issued are based on a test of each mower or on a reasonable testing program. The records are to be maintained for a period of at least three years from the date of certification of each mower or each production lot. The rule also requires that the certificates be in the form of a label on the product stating (1) “Meets CPSC blade safety requirements”; (2) an identification of the production lot; (3) the name of the person or firm issuing the certificate; (4) the location where the product was principally assembled; and (5) the month and year the product was manufactured. See 16 CFR 1205.35(a)-(b).

Estimated Number of Respondents: CPSC estimates approximately 34 lawn-mower suppliers will respond to the collection annually.

Estimated Time per Response: Based on subject matter knowledge and previous experience during compliance inspections conducted for lawn mowers subject to the standard, CPSC estimates that each respondent expends eight hours daily engaged in compiling and maintaining a testing record to support the certification of a production lot of lawn mowers. This may involve testing approximately five to six lawn mowers per day and recording test results in some form of a retrievable record system. CPSC assumes testing is performed over 130 estimated yearly production days, based on a highly seasonal production period. Thus, total hour burden to respondents for the recordkeeping associated with testing to support certification is estimated to be 1,040 hours per respondent (8 × 130). For the specified labeling requirements, the information should be readily available, and it could take a manufacturer an additional hour per production day to collect the information and place it on the label. Therefore, an additional 130 hours per respondent have been added to the total burden, which is 1,170 hours (1,040 + 130).

Total Estimated Annual Burden: CPSC estimates that the annual burden for compiling and maintaining a testing record to support certification is estimated to be 35,360 hours (34 respondents × 1,040 hours). The estimated additional burden related to labeling is 4,420 hours. The total annual burden hours related to recordkeeping associated with certification, and labeling are estimated to be 39,780 hours for the collection of information annually (35,360 + 4,420).

Total Estimated Annual Cost to Respondents: CPSC estimates that the cost of collecting information related to testing is approximately $2,729,438.40 based on 35,360 hours × $77.19 (total compensation for management, professional, and related workers in goods-producing industries) and annual cost burden related to labeling is estimated to be $183,827.80 based on 4,420 hours × $41.59 (total compensation for all sales and office workers in goods-producing industries).¹ Therefore, total annual burden costs related to the information collection are estimated to be $2,913,266.20 ($2,729,438.40 + $183,827.80).

¹ U.S. Bureau of Labor Statistics, “Employer Costs for Employee Compensation,” March 2025, Table 4, https://www.bls.gov/news.release/archives/ecec_06132025.pdf.

Response to Public Comments: Three comments were out of scope. The fourth commenter, Outdoor Power Equipment Institute (OPEI), asserted that CPSC's burden estimates are low because CPSC does not account for manufacturers that may be producing mowers all year-round. CPSC's estimated burden assumes 130 yearly production days, based on a highly seasonal production period. OPEI agrees that this is true for some manufacturers. However, OPEI asserts that there are other manufacturers, without specifying how many, who are in production for an estimated 250 business days all year-round. Some firms may have more than 130 yearly production days, even up to 250 business production days, as suggested by OPEI, and others may have fewer production days. OPEI has not provided any detailed information that will assist in revising the estimated PRA burden. For this reason, CPSC is not revising its current burden estimates based on 130 days of production per year.

OPEI also expressed concerns about potential duplicative burdens associated with e-filing requirements under a new rule, Certificates of Compliance. See 16 CFR 1110. The PRA burden associated with the e-filing requirements for walk-behind lawn mowers is accounted for in the final e-filing rule. 90 FR 1800, 1839 (Jan. 8, 2025).²

² OMB approved the information collection request associated with the e-filing rule on February, 28, 2025. See OMB Control No. 3041-0203.

Alberta E. Mills,
Secretary, Consumer Product Safety Commission.

[FR Doc. 2025-21595 Filed 11-28-25; 8:45 am]

BILLING CODE 6355-01-P